DEPARTMENT OF TRANSPORTATION

Pipeline and Hazardous Materials Safety Administration

[Docket No. PHMSA-2021-0117 (Notice No. 2022-01)]

Hazardous Materials: Information Collection Activities

AGENCY: Pipeline and Hazardous Materials Safety Administration (PHMSA), DOT.

ACTION: Notice and request for comments.

SUMMARY: In accordance with the Paperwork Reduction Act of 1995, PHMSA invites comments on this information collection pertaining to hazardous materials transportation for which PHMSA intends to request renewal from the Office of Management and Budget.

DATES: Interested persons are invited to submit comments on or before March 14, 2022.

ADDRESSES: You may submit comments identified by the Docket No. PHMSA-2021-0117 (Notice No. 2022-01) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2021-0117) for this notice at the beginning of the comment. To avoid duplication, please use only one of these four methods. All comments received will be posted without change to the Federal Docket Management System (FDMS) and will include any personal information you provide.

Requests for a copy of an information collection should be directed to Steven Andrews or Shelby Geller, Standards and Rulemaking Division, (202) 366-8553, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as “CBI.” Please mark each page of your submission containing CBI as “PROPIN.” PHMSA will treat such marked submissions as confidential under the FOIA, and they will not be placed in the public docket of this notice. Submissions containing CBI should be sent to Steven Andrews or Shelby Geller, Standards and Rulemaking Division and addressed to the Pipeline and Hazardous Materials Safety Administration, U.S. Department of Transportation, 1200 New Jersey Avenue SE, Washington, DC 20590-0001 or to steven.andrews@dot.gov. Any commentary that PHMSA receives which is not specifically designated as “CBI” will be placed in the public docket for this notice.

SUPPLEMENTARY INFORMATION: Section 1320.8(d), title 5, Code of Federal Regulations (CFR) requires PHMSA to provide interested members of the public and affected agencies an opportunity to comment on information collection and recordkeeping requests. This notice identifies an information collection request that PHMSA will be submitting to the Office of Management and Budget (OMB) for renewal and extension. This information collection is contained in 49 CFR 171.6 of the Hazardous Materials Regulations (HMR; 49 CFR parts 171-180). PHMSA has revised burden estimates, where appropriate, to reflect current reporting levels or adjustments based on changes in proposed or final rules published since this information collection was last approved. The following is provided for this information collection: (1) Title of the information collection, including former title if a change is being made; (2) OMB control number; (3) summary of the information collection activity; (4) description of affected public; (5) estimate of total annual reporting and recordkeeping burden; and (6) frequency of collection. PHMSA will request a 3-year term of approval for this information collection activity and will publish a notice in the Federal Register upon OMB's approval.

PHMSA requests comments on the following information collection:

Title: Flammable Hazardous Materials by Rail Transportation.

OMB Control Number: 2137-0628.

Summary: This OMB control number is used for information and recordkeeping requirements pertaining to the sampling and testing certification, routing analysis, and incident reporting for flammable liquids by rail transportation. Rail carriers, shippers, PHMSA's Office of Hazardous Materials Safety (OHMS), the Federal Railroad Administration (FRA), and the Association of American Railroads (AAR) may use this information to ensure that rail tank cars transporting flammable liquids are properly classified, ensure trains are routed appropriately, and collect all relevant incident data.

This OMB control number is being submitted for renewal and includes the following information collections and associated burden hours:

Information collection | Respondents | Responses | Hours per response | Total hours
Sampling and Testing Plan Burden for Subsequent Year Revision | 1,801 | 1,801 | 10 | 18,010
Routing—Collection by Segment for Class II Railroads | 10 | 10 | 40 | 400
Routing—Collection by Segment for Class III Railroads | 160 | 160 | 40 | 6,400
Routing Analysis Burden for Class II Railroads | 10 | 50 | 16 | 800
Routing Analysis Burden for Class III Railroads | 160 | 320 | 8 | 2,560
Routing Security Analysis Burden for Class II Railroads | 10 | 40 | 12 | 480
Routing Security Analysis Burden for Class III Railroads | 64 | 32 | 4 | 128
Tank Car Retrofit Burden | 50 | 50 | 0.5 | 25
Crude Oil Incident Reporting | 17 | 17 | 2 | 34
Oil Spill Response Plans—Submit Reports | 73 | 14.6 | 0.5 | 7.3
Oil Spill Response Plan—Class I | 7 | 7 | 162 | 1,134
Oil Spill Response Plan—Class II | 11 | 11 | 54 | 594
Oil Spill Response Plan—Class III | 55 | 55 | 36 | 1,980
Notification Plans—Maintenance | 73 | 2,190 | 1 | 2,190
Notification Plans—DOT Request | 73 | 15.33 | 1 | 15.33

Affected Public: Shippers and carriers of petroleum liquids transported by rail.

Annual Reporting and Recordkeeping Burden:

Number of Respondents: 2,574.

Total Annual Responses: 4,773.

Total Annual Burden Hours: 34,758.

Frequency of Collection: On occasion.

Issued in Washington, DC, on January 7, 2022.
William A. Quade,
Deputy Associate Administrator of Hazardous Materials Safety, Pipeline and Hazardous Materials Safety Administration.

[FR Doc. 2022-00575 Filed 1-12-22; 8:45 am]

BILLING CODE 4910-60-P